DEPARTMENT OF HEALTH AND HUMAN SERVICES

Food and Drug Administration

[Docket NO. 87F-0153]

Dow Chemical Co.; Withdrawal of Food Additive Petition

AGENCY: Food and Drug Administration, HHS.

ACTION: Notice.

SUMMARY: The Food and Drug Administration (FDA) is announcing the withdrawal, without prejudice to a future filing, of a food additive petition (FAP 7B3994), filed by Dow Chemical Co. proposing that the food additive regulations be amended to provide for the safe use of hydrogen peroxide solution to sterilize vinylidene chloride-vinyl chloride copolymers in contact with food.

FOR FURTHER INFORMATION CONTACT: Vir D. Anand, Center for Food Safety and Applied Nutrition (HFS-215), Food and Drug Administration, 5100 Paint Branch Pkwy., College Park, MD 20740, 202-418-3081.

SUPPLEMENTARY INFORMATION: In a notice published in the Federal Register of June 4, 1987 (52 FR 21122), FDA announced that a food additive petition (FAP 7B3994) had been filed by Dow Chemical CO., Midland, MI 48674. The petition proposed to amend the food additive regulation § 178.1005 Hydrogen peroxide solution (21 CFR 178.1005) to provide for the safe use of hydrogen peroxide solution to sterilize vinylidene chloride-vinyl chloride copolymers in contact with food. Dow Chemical Co. has now withdrawn the petition without prejudice to a future filing (21 CFR 171.7).

Dated: June 12, 2002.
George H. Pauli,
Acting Director, Office of Food Additive Safety, Center for Food Safety and Applied Nutrition.

[FR Doc. 02-15954 Filed 6-24-02; 8:45 am]

BILLING CODE 4160-01-S